DEPARTMENT OF HOMELAND SECURITY

Coast Guard

33 CFR Part 117

[Docket No. USCG-2016-0021]

Drawbridge Operation Regulation; Lake Washington Ship Canal, Seattle, WA

AGENCY: Coast Guard, DHS.

ACTION: Notice of deviation from drawbridge regulation.

SUMMARY: The Coast Guard has issued a temporary deviation from the operating schedule that governs the Montlake Bridge across the Lake Washington Ship Canal, mile 5.2, at Seattle, WA. The deviation is necessary to allow the bridge to operate in single leaf mode during day light hours, and a full closure (both bascule leafs in the closed-to-navigation position) during night time hours while work crews replace bridge decking. This deviation allows a single leaf opening with a one hour advance notice during the day, and remains in the closed-to-navigation position at night.

DATES: This deviation is effective from 6 a.m. on February 27, 2016 to 6 p.m. on February 28, 2016.

ADDRESSES: The docket for this deviation, [USCG-2016-0021] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Washington Department of Transportation has requested a temporary deviation from the operating schedule for the Montlake Bridge across the Lake Washington Ship Canal, at mile 5.2, at Seattle, WA. The deviation is necessary to accommodate work crews conducting timely bridge deck repairs.

The Montlake Bridge in the closed position provides 30 feet of vertical clearance throughout the navigation channel, and 46 feet of vertical clearance throughout the center 60 feet of the bridge; vertical clearance references to the Mean Water Level of Lake Washington. When half the span is open with a single leaf, 46 feet of vertical clearance will be reduced throughout the center to 30 feet of the bridge.

To facilitate this event, the north half of the bridge span, or single leaf, will open with at least a one hour advance notice provided to the bridge operator from 6 a.m. to 6 p.m. on February 27, 2016. From 6 p.m. on February 27, 2016 to 5 a.m. on February 28, 2016, the Montlake Bridge span will remain in the closed-to-navigation position, or full closure. Then, from 5 a.m. to 6 p.m. on February 28, 2016, the north half of the bridge span will open with at least a one hour advance notice to the bridge operator. The normal operating schedule for the Montlake Bridge operates in accordance with 33 CFR 117.1051(e).

The deviation period is from 6 a.m. on February 27, 2016 to 6 p.m. on February 27, 2016 (north single leaf opening if a one hour notice is given); from 6 p.m. on February 27, 2016 to 5 a.m. on February 28, 2016 (remain in the closed-to-navigation position); from 5 a.m. on February 28, 2016 to 6 p.m. on February 28, 2016 (north single leaf opening if a one hour notice is given).

Waterway usage on the Lake Washington Ship Canal ranges from commercial tug and barge to small pleasure craft. Vessels able to pass through the bridge in the closed-to-navigation position may do so at any time. The bridge will be able to open for emergency vessels in route to a call when an hour notice is given to the bridge operator, and a single leaf opening will be provided. The Lake Washington Ship Canal has no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: January 11, 2016.
Steven M Fischer,
Bridge Administrator, Thirteenth Coast Guard District.

[FR Doc. 2016-00654 Filed 1-14-16; 8:45 am]

BILLING CODE 9110-04-P